SMALL BUSINESS ADMINISTRATION

Escalate Capital Partners SBIC I, L.P.; Notice Seeking Exemption Under Section 312 of the Small Business Investment Act, Conflicts of Interest

Notice is hereby given that Escalate Capital Partners SBIC I, L.P., 300 W. 6th Street, Suite 2250, Austin, TX 78701, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Escalate Capital Partners SBIC I, L.P. proposes to provide equity financing to Century Payments, Inc. (“Century”), 2601 Network Boulevard, Frisco, TX 75034. The financing is contemplated to fund the ongoing operating needs of the business.

The financing is brought within the purview of § 107.730(a)(1) of the Regulations because AV-EC Partners I, L.P., is an Associate of Escalate Capital Partners SBIC I, L.P., owns more than ten percent of Century, and therefore Century is considered an Associate of Escalate Capital Partners SBIC I, L.P. as detailed in § 107.50 of the Regulations.

Notice is hereby given that any interested person may submit written comments on the transaction to the Associate Administrator for Investment, U.S. Small Business Administration, 409 Third Street, SW., Washington, DC 20416.

Dated: July 19, 2010.
Sean Greene,
Associate Administrator for Investment.

[FR Doc. 2010-18810 Filed 7-30-10; 8:45 am]

BILLING CODE 8025-01-P